DEPARTMENT OF JUSTICE

Notice of Lodging of Proposed Consent Decree Under the Clean Air Act

On May 25, 2021, the Department of Justice lodged a proposed Consent Decree (“Consent Decree”) with the United States District Court for the District of Connecticut in a lawsuit entitled United States v. The Metropolitan District, Civil Action No. 3:21-cv-0715.

In its Complaint, the United States, on behalf of the U.S. Environmental Protection Agency (“EPA”), alleges that The Metropolitan District violated the Clean Air Act (the “CAA” or “Act”), 42 U.S.C. 7413, by violating the requirements for Standards of Performance for New Sewage Sludge Incineration Units, 40 CFR part 60, subpart LLLL. Those alleged violations include failing to submit required control and monitoring plans, conduct annual performance tests that comply with the CAA regulations, and achieve continuous compliance with operating parameter limits and air pollution emission limits from its sewage sludge incineration (“SSI”) units. The proposed Consent Decree in this case requires payment of a civil penalty of $298,000, and injunctive relief including: (a) Notification of a test plan, conducting a performance test, and submitting a test report related to the SSI units; (b) setting and meeting site-specific operating limits; (c) meeting emission limits and standards, and demonstrating initial and ongoing compliance with those limits and standards; (d) submitting an initial compliance report; (e) conducting annual testing; (f) submitting an annual compliance report; (g) submitting progress reports and semi-annual deviation reports; (j) conducting initial and annual air control device inspections and performing related repairs; (k) meeting annual operator training requirements; and, (l) installing a carbon monoxide emissions monitoring system and demonstrating compliance with carbon monoxide emission limits.

The publication of this notice opens a period for public comment on the proposed Consent Decree. Comments should be addressed to the Assistant Attorney General, Environment and Natural Resources Division, and should refer to United States v. The Metropolitan District, D.J. Ref. No. 90-5-2-1-12047. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.00 (25 cents per page reproduction cost), payable to the United States Treasury.

Henry Friedman,
Assistant Chief, Environmental Enforcement Section, Environment & Natural Resources Division.

[FR Doc. 2021-11523 Filed 6-1-21; 8:45 am]

BILLING CODE 4410-15-P